DEPARTMENT OF LABOR

Employment and Training Administration

[Docket No. TA-W-40,096]

Crenlo, Inc. Rochester, Minnesota; Notice of Termination of Investigation

Pursuant to Section 221 of the Trade Act of 1974, an investigation was initiated on September 24, 2001, in response to a petition filed on behalf of workers at CRENLO, Inc., Rochester, Minnesota.

Further examination of the Trade Adjustment Assistance petition form shows that the filing does not meet the Trade Act requirements for a valid petition. The petition is invalid because it contains the signature of only one worker, not the required three. Consequently, further investigation would serve no purpose and the investigation has been terminated.

Signed in Washington, DC this 3rd day of January, 2002.
Linda G. Poole,
Certifying Officer, Division of Trade Adjustment Assistance.

[FR Doc. 02-718 Filed 1-10-02; 8:45 am]

BILLING CODE 4510-30-M